DEPARTMENT OF THE INTERIOR

Fish and Wildlife Service

[FWS-R1-R-2015-N161; 1256-0000-10137-S3]

Kīlauea Point National Wildlife Refuge, Kaua`i County, HI; Comprehensive Conservation Plan and Finding of No Significant Impact for Environmental Assessment

AGENCY: Fish and Wildlife Service, Interior.

ACTION: Notice of availability.

SUMMARY: We, the U.S. Fish and Wildlife Service (Service), announce the availability of our comprehensive conservation plan (CCP) and finding of no significant impact (FONSI) for the environmental assessment (EA) for Kīlauea Point National Wildlife Refuge (Refuge). The CCP will guide management of the Refuge for 15 years, or until it is revised, and actions will be implemented as funding becomes available.

ADDRESSES: You may view, download, or request printed or CD-ROM copies of the CCP and FONSI by the following methods:

Agency Web site: Download the documents at http://www.fws.gov/refuge/Kilauea_Point/what_we_do/planning.html.

Email: FW1PlanningComments@fws.gov. Include “Kīlauea Point final CCP” in the subject line of the message.

Fax: Attn: Michael Mitchell, Acting Project Leader, (808) 828-6381.

U.S. Mail: Kaua`i National Wildlife Refuge Complex, P.O. Box 1128, Kīlauea, HI 96754.

In-Person Viewing or Pickup: Call (808) 828-1413 to make an appointment during regular business hours at the Kīlauea Point National Wildlife Refuge, 3500 Kīlauea Road, Kīlauea, HI 96754. For more information on locations for viewing documents, see “Public Availability of Documents” under SUPPLEMENTARY INFORMATION.

FOR FURTHER INFORMATION CONTACT: Michael Mitchell, Acting Project Leader, Kaua`i National Wildlife Refuge Complex, P.O. Box 1128, Kīlauea, HI 96754; phone (808) 828-1413 and fax (808) 828-6381.

SUPPLEMENTARY INFORMATION:

Introduction

With this notice, we finalize the CCP process for the Refuge. We started this process through a notice in the Federal Register (74 FR 49399; September 28, 2009). For more information about the history of the Refuge, see that notice. We also released the draft CCP/EA to the public and requested comments through a notice in the Federal Register (80 FR 7876; February 12, 2015).

We announce our decision and the availability of the FONSI and the final CCP in accordance with National Environmental Policy Act (40 CFR 1506.6(b)) requirements. We completed an analysis of impacts on the human environment in the draft CCP/EA. The CCP will guide management of the Refuge for 15 years, or until it is revised, and actions will be implemented as funding becomes available.

We selected a slightly modified Alternative D for implementation. We made changes and clarifications to the final CCP, where appropriate, to address public comments we received on the draft CCP/EA. A summary of the public comments is included in the final CCP with our responses.

Background

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify compatible wildlife-dependent recreational opportunities available to the public. We will review and update the CCP at least every 15 years in accordance with the Refuge Administration Act.

Selected Alternative

Under the selected alternative, we will expand long-term protections and population and habitat enhancements for migratory seabirds and the endangered nēnē (Hawaiian goose, Branta sandvicensis). We will restore native coastal plant communities. Priority research, inventories, monitoring, and other scientific assessments will increase.

The majority of public use activities offered at the Refuge will continue to revolve around wildlife observation and photography, environmental education, and interpretation located on Kīlauea Point proper (Point) or at the Kīlauea Road terminus (Overlook). We will offer guided interpretive hikes on Crater Hill, and our outreach, environmental education, and volunteer programs will be expanded.

To address transportation issues at the Point and Overlook, we will implement short-, medium-, and long-term strategies in a phased manner. The Kāhili Quarry area will continue to be open 24 hours a day to some wildlife-dependent uses (fishing, wildlife observation, and photography) and as public access to off-Refuge areas (Kīlauea River, Kīlauea Bay, and Kāhili Beach) for boating and other stream, beach, and ocean uses. Traditional cultural practices, such as native Hawaiian fishing at Kīlauea (East) Cove, will remain open.

The Refuge will maintain current infrastructure; however, a step-down Master Site Plan will be developed to evaluate and detail building use and remodeling/maintenance needs. We will develop a new maintenance baseyard (e.g., storage sheds, bays, pole barns, and nursery) off-Refuge.

Public Availability of Documents

You can view documents at the following libraries:

• Princeville Public Library, 4343 Emmalani Dr., Princeville, HI 96722

• Līhu`e Public Library, 4344 Hardy St., Līhu`e, HI 96766

• Kapa`a Public Library, 4-1464 Kuhio Hwy., Kapa`a, HI 96746

• Koloa Public Library, 3451 Poipu Rd., Koloa, HI 96756

• Hanapepe Public Library, 4490 Kona Rd., Hanapepe, HI 96716

• Waimea Public Library, 9750 Kaumualii Hwy., Waimea, HI 96796

Dated: June 6, 2016.
Robyn Thorson,
Regional Director, Portland, Oregon, U.S. Fish and Wildlife Service.

[FR Doc. 2016-15876 Filed 7-5-16; 8:45 am]

BILLING CODE 4333-15-P